SECURITIES AND EXCHANGE COMMISSION

Submission for OMB Review; Comment Request

Upon written request, copies available from: Securities and Exchange Commission, Office of Investor Education and Advocacy, Washington, DC 20549-0213.

Extension: Form S-4; OMB Control No. 3235-0324; SEC File No. 270-287.

Notice is hereby given that, pursuant to the Paperwork Reduction Act of 1995 (44 U.S.C. 3501 et seq.), the Securities and Exchange Commission (‘Commission’) has submitted to the Office of Management and Budget a request for extension of the previously approved collection of information discussed below.

Form S-4 (17 CFR 239.25) is the registration form used to register securities issued in business combination transactions under the Securities Act of 1933 (15 U.S.C. 77a et seq.). The information collected is intended to ensure the adequacy of information available to investors in connection with business combination transactions. Form S-4 is a public document and all information provided is mandatory. Form S-4 takes approximately 4,064 hours per response to prepare and is filed by 619 registrants annually. We estimate that 25% of the 4,064 hours per response (1,016 hours) is prepared by the registrant for an annual reporting burden of 628,904 hours (1,016 hours per response × 619 responses).

An agency may not conduct or sponsor, and a person is not required to respond to, a collection of information unless it displays a currently valid control number.

Written comments regarding the above information should be directed to the following persons: (i) Desk Officer for the Securities and Exchange Commission, Office of Information and Regulatory Affairs, Office of Management and Budget, Room 10102, New Executive Office Building, Washington, DC 20503 or send an e-mail to Alexander_T._Hunt@omb.eop.gov; and (ii) Lewis W. Walker, Acting Director/CIO, Securities and Exchange Commission, C/O Shirley Martinson, 6432 General Green Way, Alexandria, VA 22312; or send an e-mail to: PRA_Mailbox@sec.gov. Comments must be submitted to OMB within 30 days of this notice.

Dated: July 22, 2008.
Florence E. Harmon,
Acting Secretary.

[FR Doc. E8-17214 Filed 7-25-08; 8:45 am]

BILLING CODE 8010-01-P